SECURITIES AND EXCHANGE COMMISSION

[Release No. 34-46091; File No. 4-208]

Intermarket Trading System; Notice of Filing of the Nineteenth Amendment to the ITS Plan Relating to the Philadelphia Stock Exchange, Inc.'s Implementation of a Remote Specialist Program

June 19, 2002.

Pursuant to Section 11A of the Securities Exchange Act of 1934 (“Act”),¹ and Rule 11A3a3-2 thereunder,² notice is hereby given that on May 3, 2002, the Intermarket Trading System Operating Committee (“ITSOC”) submitted to the Securities and Exchange Commission (“Commission”) a proposed amendment (“Nineteenth Amendment”) to the restated ITS Plan.³ The purpose of the proposed plan amendment is to recognize the Phlx's implementation of a remote specialist program. The Commission is publishing this notice to solicit comment on the proposed amendment from interested persons.

¹ 15 U.S.C. 78k-1.

² 17 CFR 240.11Aa3-2.

³ The ITS is a National Market System (“NMS”) plan, which was designed to facilitate intermarket trading in exchange-listed equity securities based on current quotation information emanating from the linked markets. See Securities Exchange Act Release No. 19456 (January 27, 1983), 48 FR 4938 (February 3, 1983).

The ITS Participants include the American Stock Exchange LLC (Amex”), the Boston Stock Exchange, Inc. (“BSE”), the Chicago Board Options Exchange, Inc. (“CBOE”), the Chicago Stock Exchange, Inc. (“CHX”), the Cincinnati Stock Exchange, Inc. (“CSE”), the National Association of Securities Dealers, Inc. (“NASD”), the New York Stock Exchange, Inc. (“NYSE”), the Pacific Exchange, Inc. (“PCX”), and the Philadelphia Stock Exchange, Inc. (“Phlx”) (“Participants”).

I. Description of the Amendment

The ITSOC proposes to amend the ITS Plan to recognize the Phlx's implementation of its remote specialist program.⁴ Specifically, the ITSOC proposes to amend Sections 1 (“Definitions”), 6(a)(i)(A) (“Receipt of Quotations”), 6(a)(ii) (“Description of ITS Transactions”), and 8(a) (“System Access”) of the ITS Plan to include references regarding the premises of Phlx Remote Specialists on which ITS stations are located, and define the terms “Phlx Remote Specialist,“ ⁵ “Phlx Registered Specialist,“ ⁶ and “Phlx Designated Specialist.”⁷

⁴ See Securities Exchange Act Release No. 45184 (December 21, 2001), 67 FR 622 (January 4, 2002) (order approving SR-Phlx-2001-98).

⁵ The term “Phlx Remote Specialist” is defined in the proposed amendment as a Phlx Registered Specialist who is authorized by Phlx Rule 461 to conduct his/her regular specialist trading activities at remote locations off the floor of the Phlx.

⁶ The term “Phlx Registered Specialist” is defined in the proposed amendment as a Phlx member who has been appointed and registered pursuant to Phlx Rule 202 to act as a market maker in one or more System securities.

⁷ The term “Phlx Designated Specialist” is defined in the proposed amendment as a Phlx Registered Specialist appointed by the Phlx to coordinate the handling of commitments to trade received by the Phlx.

II. Solicitation of Comments

Interested persons are invited to submit written data, views and arguments concerning the foregoing, including whether the proposed Plan amendment is consistent with the Act. Persons making written submissions should file six copies thereof with the Secretary, Securities and Exchange Commission, 450 Fifth Street, NW, Washington, DC 20549-0609. Copies of the submission, all subsequent amendments, all written statements with respect to the proposed Plan amendment that are filed with the Commission, and all written communications relating to the proposed Plan amendment between the Commission and any person, other than those that may be withheld from the public in accordance with the provisions of 5 U.S.C. 552, will be available for inspection and copying in the Commission's Public Reference Room. Copies of such proposed Plan Amendment will also be available for inspection and copying at the principal office of the ITS. All submissions should refer to File No. 4-208 and should be submitted by July 17, 2002.

For the Commission, by the Division of Market Regulation, pursuant to delegated authority.⁸
⁸ 17 CFR 200.30-3(a)(29).
Margaret H. McFarland,
Deputy Secretary.

[FR Doc. 02-16065 Filed 6-25-02; 8:45 am]

BILLING CODE 8010-01-P